DEPARTMENT OF COMMERCE

International Trade Administration

[C-469-818]

Ripe Olives From Spain: Final Results of Countervailing Duty Administrative Review; 2017-2018

AGENCY: Enforcement and Compliance, International Trade Administration, Department of Commerce.

SUMMARY: The Department of Commerce (Commerce) determines that certain producers and/or exporters of ripe olives from Spain, received countervailable subsidies during the period of review (POR), November 28, 2017, through December 31, 2018.

DATES: Effective July 2, 2021.

FOR FURTHER INFORMATION CONTACT: Mary Kolberg or Dusten Hom, AD/CVD Operations, Office I, Enforcement and Compliance, International Trade Administration, U.S. Department of Commerce, 1401 Constitution Avenue NW, Washington, DC 20230; telephone: (202) 482-1785, (202) 482-5075, respectively.

SUPPLEMENTARY INFORMATION:

Background

On December 28, 2020, Commerce published the Preliminary Results of this CVD administrative review in the Federal Register.¹ On April 5, 2021, Commerce extended the deadline for the final results of this administrative review until June 25, 2021.² We invited interested parties to comment on the Preliminary Results. On May 7, 2021, we received case briefs from Alimentary Group DCoop S.Coop. And. (DCoop), ASEMESA, Agro Sevilla Aceitunas S.Coop. And. (Agro Sevilla), and Angel Camcho Alimentacion, S.L. (Camacho), the European Investment Fund (the EIF), the Government of Spain (the GOS), and Musco Family Olive Company (Musco).³ On May 14, 2021, we received rebuttal briefs from ASEMESA, Agro Sevilla, and Camacho, DCoop, and Musco.⁴ For a complete description of the events that occurred since the Preliminary Results, see the Issues and Decision Memorandum.⁵

¹ See Ripe Olives from Spain: Preliminary Results of Countervailing Duty Administrative Review; 2017-2018, 85 FR 84294 (December 28, 2020), and accompanying Preliminary Decision Memorandum (Preliminary Decision Memorandum) (collectively, Preliminary Results).

² See Memorandum, “Ripe Olives from Spain: Extension of Deadline for Final Results of Countervailing Duty Administrative Review; 2017-2018,” dated April 5, 2021.

³ See EIF's Letter, “2019 Administrative Review of the CVD Order on Ripe Olives from Spain-Case brief,” dated May 7, 2021; see also ASEMESA's, Agro Sevilla's, and Camacho's Letter, “Case Brief of ASEMESA, Agro Sevilla Aceitunas S.Coop.And. (`Agro Sevilla'), and Angel Camacho Alimentacion, S.L. (`Camacho') Ripe Olives from Spain (C-469-818),” dated May 7, 2021; GOS's Letter, “Case of the Government of Spain in relation to the Post-Preliminary Determination, issued by the Department of Commerce on April 22, 2021, regarding the first CVD administrative review of Ripe Olives from Spain,” dated May 7, 2021; Musco's Letter, “Ripe Olives from Spain; 1st Administrative Review-Case Brief of Musco,” dated May 7, 2021; and Dcoop's Letter, “Ripe Olives from Spain: Resubmission of Case Brief,” dated May 12, 2021.

⁴ See Dcoop's Letter, “Ripe Olives from Spain: Rebuttal Brief,” dated May 14, 2021; see also ASEMESA's, Agro Sevilla's, and Camacho's Letter, “Rebuttal Brief of ASEMESA, Agro Sevilla and Camacho—Ripe Olives from Spain (C-469-818),” dated May 14, 2021; and Musco's Letter, “Ripe Olives from Spain: 1st Administrative Review-Rebuttal Brief of Musco,” dated May 14, 2021.

⁵ See Memorandum, “Issues and Decision Memorandum for the Final Results of the Countervailing Duty Administrative Review of Ripe Olives from Spain; 2017-2018,” dated concurrently with, and hereby adopted by, this notice (Issues and Decision Memorandum),

Scope of the Order

The product covered by the order are ripe olives from Spain. For a complete description of the scope of this order, see the Issues and Decision Memorandum.

Analysis of Comments Received

All issues raised by the interested parties in their case and rebuttal briefs are addressed in the Issues and Decision Memorandum. A list of these issues are identified in the Appendix to this notice. The Issues and Decision Memorandum is a public document and is on file electronically via Enforcement and Compliance's Antidumping and CVD Centralized Electronic Service System (ACCESS). ACCESS is available to registered users at http://access.trade.gov. In addition, a complete version of the Issues and Decision Memorandum can be accessed directly at http://enforcement.trade.gov/frn/.

Changes Since the Preliminary Results

Based on the comments received from interested parties, we revised the calculation of the net countervailable subsidy rates for the respondents: DCoop, Agro Sevilla, and Camacho. For a discussion of these issues, see the Issues and Decision Memorandum.

Methodology

Commerce conducted this review in accordance with section 751(a)(1)(A) of the Tariff Act of 1930, as amended (the Act). For each of the subsidy programs found to be countervailable, we determine that there is a subsidy (i.e., a financial contribution by an “authority” that gives rise to a benefit to the recipient) and that the subsidy is specific.⁶ For a full description of the methodology underlying our conclusions, see the Issues and Decision Memorandum.

⁶ See sections 771(5)(B) and (D) of the Act regarding financial contribution; section 771(5)(E) of the Act regarding benefit; and section 771(5A) of the Act regarding specificity.

In making this final determination, Commerce is relying, in part, on facts otherwise available, including adverse facts available (AFA), pursuant to sections 776(a) and (b) of the Act. For a full discussion of our application of AFA, see the Preliminary Results and the section “Use of Facts Otherwise Available and Adverse Inference” in the accompanying Issues and Decision Memorandum.

Final Results of Review

We determine the following net countervailable subsidy rates for the period of November 28, 2017, through December 31, 2018:

Exporter/producer | Subsidy rate
Agro Sevilla Aceitunas S.COOP Andalusia | 7.01
Angel Camacho Alimentacion S.L | 5.23
Alimentary Group DCoop S.Coop. And | 22.36

Disclosure

We intend to disclose to interested parties the calculations and analysis performed in the final results of this review within five days of the date of publication of this notice in accordance with 19 CFR 351.224(b).

Assessment

In accordance with section 751(a)(2)(C) of the Act and 19 CFR 351.212(b)(2), Commerce shall determine, and CBP shall assess, countervailing duties on all appropriate entries covered by this review. Commerce intends to issue appropriate assessment instructions to CBP no earlier than 35 days after the date of this publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for each of the respective companies listed above. For all non-reviewed firms, CBP will continue to collect cash deposits of estimated countervailing duties at the most recent company-specific or all-others rate applicable to the company, as appropriate. These cash deposit requirements, when imposed, shall remain in effect until further notice.

Administrative Protective Order

This notice serves as a final reminder to parties subject to administrative protective order (APO) of their responsibility concerning the destruction of proprietary information disclosed under APO in accordance with 19 CFR 351.305(a)(3). Timely written notification of return or destruction of APO materials or conversion to judicial protective order is hereby requested. Failure to comply with the regulations and the terms of an APO is sanctionable violation.

Notification to Interested Parties

These final results are issued and published in accordance with sections 751(a)(1) and 777(i) of the Act and 19 CFR 351.221(b)(5).

Dated: June 25, 2021.
Ryan Majerus,
Deputy Assistant Secretary for Policy and Negotiations.

Appendix—List of Topics Discussed in the Issues and Decision Memorandum

I. Summary

II. Background

III. Scope of the Order

IV. Subsidies Valuation

V. Loan Interest Rate Benchmark and Discount Rates

VI. Use of Facts Otherwise Available and Adverse Inferences

VII. Analysis of Programs

VIII. Analysis of Comments

Comment 1: Whether Commerce Properly Interpreted and Applied the Standard Established by Section 771B(1) of the Act for Determining “Substantially Dependent” Demand

Comment 2: Whether the EU CAP Pillar I—BPS is De Jure Specific

Comment 3: Whether Commerce Used an Incorrect Sales Denominator To Calculate Agro Sevilla's Subsidy Rate

Comment 4: Whether Commerce Should Exclude Re-Sales and Purchases of Molinos Not Used To Produce Subject Merchandise From Camacho's Subsidy Rate Calculation

Comment 5: Whether the PROSOL Program is Specific

Comment 6: Whether the ICO—National Investment Program is Specific

Comment 7: Whether the Andalusia Energy Agency for Sustainable Energy Development for Andalusia Scheme is Specific

Comment 8: Whether the European Investment Fund Loans Program is Specific

Comment 9: Whether Commerce Should Allocate Olive Subsidy Benefits to Sales of Olives Only

Comment 10: Whether Commerce Should Adjust its Calculation for Yield Loss

Comment 11: Whether Commerce Should Revise its Calculation for the Two Coop Respondents To Eliminate Double Counting of Grower Quantities

Comment 12: Whether Commerce Should Apply AFA to Agro Sevilla's First-Tier Coops and Member Growers

Comment 13: Whether Commerce Should Correct Ministerial Errors for Agro Sevilla

Comment 14: Whether Commerce Should Correct Ministerial Errors for Camacho

Comment 15: Whether Commerce Should Apply AFA to Camacho's Growers

Comment 16: Whether Commerce Should Apply AFA to Dcoop's First-Tier Coops and Member Growers

Comment 17: Whether Commerce Should Find That All Dcoop's Growers Received Greening Benefits

Comment 18: Whether Commerce Should Use Dcoop's Calendar Year 2018 Grower Data or, in the Alternative, Should Correct Ministerial Errors

IX. Recommendation

[FR Doc. 2021-14142 Filed 7-1-21; 8:45 am]

BILLING CODE 3510-DS-P